COMMISSION ON CIVIL RIGHTS

Agenda and Notice of Public Meeting of the North Dakota Advisory Committee

AGENCY: Commission on Civil Rights.

ACTION: Announcement of meetings.

SUMMARY: Notice is hereby given, pursuant to the provisions of the rules and regulations of the U.S. Commission on Civil Rights (Commission), and the Federal Advisory Committee Act (FACA), that a planning meeting of the North Dakota Advisory Committee to the Commission will by teleconference at 12 p.m. (CST) on Wednesday, February 19, 2020. The purpose of the meeting is for planning of its next civil rights project.

Date and Time: Wednesday, February 19, 2020, at 12 p.m. CST

Public Call-in Information: Conference call-in number: 1-800-367-2403 and conference call 91223280.

TDD: Dial Federal Relay Service 1-800-877-8339 and give the operator the above conference call number and conference ID.

FOR FURTHER INFORMATION CONTACT: Evelyn Bohor, at ebohor@usccr.gov or by phone at (202) 376-7533.

SUPPLEMENTARY INFORMATION: Interested members of the public may listen to the discussion by calling the following toll-free conference call-in number: 1-800-367-2403 and conference call 91223280. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Persons with hearing impairments may also follow the discussion by first calling the Federal Relay Service at 1-800-877-8339 and providing the operator with the toll-free conference call-in number: 1-800-367-2403 and conference call 91223280.

Members of the public are invited to make statements during the open comment period of the meeting or submit written comments. The comments must be received in the regional office approximately 30 days after each scheduled meeting. Written comments may be mailed to the Western Regional Office, U.S. Commission on Civil Rights, 300 North Los Angeles Street, Suite 2010, Los Angeles, CA 90012, faxed to (213) 894-3435, or emailed to Evelyn Bohor at ebohor@usccr.gov. Persons who desire additional information may contact the Western Regional Office at (213) 894-3437.

Records and documents discussed during the meeting will be available for public viewing as they become available at https://gsageo.force.com/FACA/apex/FACAPublicCommittee?id=a10t0000001gzl9AAA; click the “Meeting Details” and “Documents” links. Records generated from this meeting may also be inspected and reproduced at the Western Regional Office, as they become available, both before and after the meeting. Persons interested in the work of this advisory committee are advised to go to the Commission's website, www.usccr.gov, or to contact the Western Regional Office at the above phone numbers, email or street address.

Agenda: Wednesday, February 19, 2020, 12 p.m. (CST)

• Roll call

• Planning Next Civil Rights Project

• Other Business

• Open Comment

• Adjourn

Dated: February 5, 2020.
David Mussatt,
Supervisory Chief, Regional Programs Unit.

[FR Doc. 2020-02648 Filed 2-10-20; 8:45 am]

BILLING CODE 6335-01-P